DEPARTMENT OF COMMERCE

National Oceanic and Atmospheric Administration

Climate Services Advisory Committee

AGENCY: National Oceanic and Atmospheric Administration (NOAA), Department of Commerce (DOC).

ACTION: Notice of establishment of the Climate Services Advisory Committee and Solicitation of Nominations for Membership.

SUMMARY: Pursuant to the Federal Advisory Committee Act, as amended (FACA), the Under Secretary of Commerce for Oceans and Atmosphere (Under Secretary) announces the establishment of the Climate Services Advisory Committee (Committee or CSAC). The CSAC will advise the Under Secretary on the accessibility, effectiveness, and use of NOAA's climate services (data, information, science, tools, and decision support) in preparing our nation for the impacts of climate change, consistent with the National Science and Technology Council's A Federal Framework and Action Plan for Climate Services (https://www.whitehouse.gov/wp-content/uploads/2023/03/ftac_report_03222023_508.pdf), NOAA's Equitable Climate Services Action Plan (https://www.noaa.gov/media/file/noaa-equitable-climate-service-delivery-action-plan-050124), as well as other related subjects that may be requested by the Under Secretary. The CSAC will terminate two (2) years from the date of its charter's filing with the standing committees of the Senate and House of Representatives having legislative jurisdiction of the agency unless terminated earlier or renewed by the proper authority. Therefore, terms of appointment are contingent upon the Committee's continuation and the active participation of the members. This notice also requests nominations for membership on the CSAC (see “Nominations and Applications” below for more detail).

DATES: Nominations and applications should be sent to the web address specified below and must be received on or before December 20, 2024 for initial consideration. This solicitation notice shall remain open for two years; NOAA will continue to accept applications after December 20, 2024 in case there are vacancies.

ADDRESSES: Nominations and applications may be emailed to amanda.mccarty@noaa.gov.

FOR FURTHER INFORMATION CONTACT: Amanda McCarty, Oceanic and Atmospheric Research, NOAA, at amanda.mccarty@noaa.gov or (240)-234-0959.

SUPPLEMENTARY INFORMATION:

I. Background and Authority

The Climate Services Advisory Committee (CSAC) is governed by the FACA. The CSAC will be established as a discretionary Federal advisory committee (FAC) under the Secretary's authority pursuant to duties imposed on the Department by law, including 15 U.S.C. 1512, to advise the Under Secretary on the accessibility, effectiveness, and use of NOAA's climate services in preparing our nation for the impacts of climate change, consistent with the National Science and Technology Council's Federal Framework and Action Plan for Climate Services, NOAA's Equitable Climate Services Action Plan, as well as other related issues that may be requested by the Under Secretary.

The establishment of the CSAC is necessary and in the public interest. The Committee will advise the Under Secretary on the accessibility, effectiveness, and use of NOAA's climate services in support of climate action, including preparing our nation's historically underserved and Tribal and Indigenous communities for climate impacts.

II. Membership

The CSAC shall consist of up to 20 non-Federal voting members with diverse perspectives, as well as expertise. Membership shall include knowledgeable individuals that serve in a representative capacity for such perspectives as: underserved and highly impacted communities; community-based organizations; climate service users from a wide range of disciplines and backgrounds; subnational governments, such as State and Local Government, community and city planners, state climatologists, and emergency managers; Indigenous communities, such as representatives from Indian tribes, Alaska Native corporations, Alaska Native organizations, tribal organizations, and Native Hawaiian organizations; affected interest groups from sectors such as public health, affordable housing, food security, workforce and economic development, small businesses, and education; Indigenous communities; and non-profit, philanthropic, and other non-governmental organizations involved in climate issues. Members serve as Representatives of their respective group or viewpoint, and are not Special Government Employees as defined in 18 U.S.C. 202(a). As such, these Representative members are not subject to the ethics rules applicable to Government employees, except that they must not misuse Government resources or misuse their affiliation with the Committee to directly benefit themselves or another.

Members of the CSAC will be appointed by the Under Secretary. In order to provide for staggered membership to ensure continuity, half of the initial members shall be appointed to a two-year term (renewable once) and half shall be appointed to a four-year nonrenewable term, as selected by the Under Secretary. Thereafter, all members will generally serve one four-year nonrenewable term. The Under Secretary shall appoint a Chair and Vice Chair from among the Committee members. An appointment may be terminated if a member misses two consecutive meetings, unless excused for good cause by the Chair or Vice Chair.

The CSAC is anticipated to meet at least twice each year, which may be conducted in person or by teleconference, webinar, or other means. Members will not be compensated for their services but may, upon request and at the discretion of NOAA, be allowed travel and per diem expenses as allowed by 5 U.S.C. 5703. As a Federal advisory committee, the CSAC's membership is required to be balanced in terms of perspectives for the functions to be performed, and appointments shall be made without discrimination on the basis of age, race, ethnicity, gender, sexual orientation, disability, or cultural, religious, or socioeconomic status. The diverse membership of the Committee assures perspectives reflecting the breadth of the Committee's responsibilities and, where possible, NOAA will also consider the ethnic, racial, gender, and geographic diversity and various abilities of the United States population.

III. Nominations and Applications

Interested persons may nominate themselves or third parties. An application is required to be considered for CSAC membership, regardless of whether a person is nominated by a third party or self-nominated. The application package must include: (1) the nominee's full name, title, institutional affiliation (if any), and contact information; (2) identification of the nominee's area(s) of representation; (3) a short description of their qualifications relative to the scope of the CSAC as described in this Notice; and (4) a current resume (maximum length four [4] pages). If nominated by a third party, the nomination should include a statement that the nominated individual agrees to be nominated. All nomination information should be provided in a single, complete package, and should be sent to the electronic address provided above. This collection is authorized under OMB Control Number 0690-0038.

Privacy Act Statement

Authority. The collection of this information is authorized under 5 U.S.C. 301, Departmental regulations which authorizes the operations of an executive agency, including the creation, custodianship, maintenance and distribution of records, and 15 U.S.C. 1512, Powers and duties of Department. The collection of names, contact information, resumes, professional information, and qualifications is required in order for the Under Secretary to appoint members to the CSAC.

Routine Uses. NOAA will use the nomination information for the purpose set forth above. The Privacy Act of 1974 authorizes disclosure of the information collected to NOAA staff for work-related purposes and for other purposes only as set forth in the Privacy Act and for routine uses published in the Privacy Act System of Records Notice COMMERCE/DEPT-11, Candidates for Membership, Members, and Former Members of Department of Commerce Advisory Committees, available at https://www.commerce.gov/opog/privacy/SORN/SORN-DEPT-11 and the System of Records Notice COMMERCE/DEPT-18, Employees Personnel Files Not Covered by Notices of Other Agencies, available at https://www.commerce.gov/opog/privacy/SORN/SORN-DEPT-18.

Disclosure. Furnishing the nomination information is voluntary; however, if the information is not provided, the individual would not be considered for appointment as a member of the CSAC.

David Holst,
CFO/CAO.

[FR Doc. 2024-27064 Filed 11-19-24; 8:45 am]

BILLING CODE 3510-KD-P